DEPARTMENT OF TRANSPORTATION

Federal Aviation Administration

14 CFR Part 39

[Docket No. FAA-2013-0481; Directorate Identifier 2011-SW-003-AD; Amendment 39-17653; AD 2013-22-21]

RIN 2120-AA64

Airworthiness Directives; Bell Helicopter Textron, Inc., Helicopters

AGENCY: Federal Aviation Administration (FAA), DOT.

ACTION: Final rule.

SUMMARY: We are adopting a new airworthiness directive (AD) for Bell Helicopter Textron, Inc. (Bell), Model 206A, 206B, 206L, 206L-1, 206L-3, 206L-4, and 407 helicopters with an Apical Industries, Inc. (Apical) emergency float kit installed under Supplemental Type Certificate (STC) Number SR01535LA. This AD was prompted by an incident in which the floats installed on a helicopter failed to deploy. This AD requires inspecting, labeling, and replacing the float inflation hoses. We are issuing this AD to prevent failure of the emergency floatation gear to deploy during an emergency event.

DATES: This AD is effective December 13, 2013.

The Director of the Federal Register approved the incorporation by reference of a certain publication listed in the AD as of December 13, 2013.

ADDRESSES: For service information identified in this AD, contact Apical Industries, Inc., 2608 Temple Heights Drive, Oceanside, CA 92056-3512; telephone (760) 724-5300; fax: (760) 758-9612; or at www.apicalindustries.com. You may review copies of the referenced service information at the FAA, Office of the Regional Counsel, Southwest Region, 2601 Meacham Blvd., Room 663, Fort Worth, Texas 76137.

Examining the AD Docket

You may examine the AD docket on the Internet at http://www.regulations.gov; or in person at the Docket Management Facility between 9 a.m. and 5 p.m., Monday through Friday, except Federal holidays. The AD docket contains this AD, the STC, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Venessa Stiger, Cabin Safety/Mechanical & Environmental Systems, Los Angeles Aircraft Certification Office, Transport Airplane Directorate, FAA, 3960 Paramount Blvd., Lakewood, California 90712-4137; telephone (562) 627-5337; email venessa.stiger@faa.gov.

SUPPLEMENTARY INFORMATION:

Discussion

We issued a notice of proposed rulemaking (NPRM) to amend 14 CFR part 39 to add an AD that would apply to Bell Model 206A, 206B, 206L, 206L-1, 206L-3, 206L-4, and 407 helicopters with an Apical emergency float kit installed under STC number SR01535LA. The NPRM published in the Federal Register on June 5, 2013 (78 FR 33770). The NPRM proposed to require inspecting each float inflation hose port fitting for correct installation and condition, labeling each port fitting, installing a port fitting adapter on each port fitting, and replacing each aft float hose. The NPRM was prompted by an incident in which the floats did not deploy evenly and the right-hand mid-float ruptured on a helicopter modified with an Apical emergency float kit. Subsequent investigation determined that the uneven deployment resulted from incorrect installation of the float inflation hoses on the port fitting at the base of the forward crosstube saddle. The NPRM was proposed to prevent failure of the emergency floats to inflate fully in an emergency.

Comments

We gave the public the opportunity to participate in developing this AD. We received no comments on the NPRM (78 FR 33770, June 5, 2013) or on the determination of the cost to the public.

Conclusion

We reviewed the relevant data and determined that an unsafe condition exists and is likely to exist or develop on other products of the same type design and that air safety and the public interest require adopting the AD as proposed.

Costs of Compliance

We estimate that this AD affects 265 helicopters of U.S. Registry. Based on an average labor rate of $85 per hour, we estimate that operators may incur the following costs in order to comply with this AD. Inspecting the float inflation hoses and installing the marking labels will require about 1 work hour, and required parts will cost about $2, for a cost per helicopter of $87, and a total cost to U.S. operators of $23,055. Installing the port fitting adaptor and replacing the aft float hose assembly will require about 1 work hour, and required parts will cost about $165, for a cost per helicopter of $250. Thus, we estimate a total cost to U.S. operators of $89,305.

If any fitting has excessive corrosion or damage, replacing the fitting will require about 1 work hour, and required parts will cost about $125, for a cost per helicopter of $210.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-22-21 Bell Helicopter Textron, Inc.: Amendment 39-17653; Docket No. FAA-2013-0481; Directorate Identifier 2011-SW-003-AD.

(a) Applicability

This AD applies to Bell Helicopter Textron, Inc. (Bell), Model 206A, 206B, 206L, 206L-1, 206L-3, 206L-4, and 407 helicopters with an Apical Industries, Inc. (Apical), emergency float kit installed under Supplemental Type Certificate (STC) Number SR01535LA, certificated in any category.

(b) Unsafe Condition

This AD defines the unsafe condition as incorrectly installed float inflation hoses, which could result in failure of the emergency floats to inflate fully during an emergency.

(c) Effective Date

This AD is effective December 13, 2013.

(d) Compliance

You are responsible for performing each action required by this AD within the specified compliance time unless it has already been accomplished prior to that time.

(e) Required Actions

(1) Within 45 hours time-in-service:

(i) Inspect each float inflation hose port fitting at the left-hand (LH) and right-hand (RH) forward crosstube saddles for corrosion, damage, or a bend in the tubing greater than 5 degrees from their original position.

(A) If there is corrosion that has penetrated the base material more than .010 inch, or damage that has removed more than .010 inch of base material, before further flight, replace the port fitting.

(B) If there is a bend in the port fitting tubing greater than 5 degrees from the original position of the tube, bend the port fitting back to its original position to enable complete sealing of the port fitting adapter.

(ii) Inspect the position of each float inflation hose for proper connection and routing to the LH and RH port fittings. If the position of any float inflation hose is not as shown in figure 2 of Apical Alert Service Bulletin No. SB2010-03, Revision C, dated December 21, 2011 (ASB SB2010-03), before further flight, correct the installation of the float inflation hose at the port fitting.

(iii) Install a marking label on the LH and RH port fittings as shown in figures 3 and 4 of ASB SB2010-03 and seal the marking label with clear shrink tubing.

(2) Within 6 months:

(i) Remove each hose connecting the aft float to the port fitting, part number (P/N) 602.1417 for Model 206A and 206B helicopters, P/N 602.1420 for Model 206L, 206L-1, 206L-3, and 206L-4 helicopters, or P/N 602.1413 for Model 407 helicopters, from each skid tube.

(ii) Install a port fitting adaptor, P/N 614.8709, onto the straight line fitting on the LH and RH port fittings as depicted in figure 6 of ASB SB2010-03.

(iii) Install an aft float hose, P/N 602.1430 for Model 206A and 206B helicopters, P/N 602.1431 for Model 206L, 206L-1, 206L-3, and 206L-4 helicopters, or P/N 602.1429 for Model 407 helicopters, to each port fitting adaptor and aft float.

(3) Do not install a hose, P/N 602.1417 for Model 206A and 206B helicopters, P/N 602.1420 for Model 206L, 206L-1, 206L-3, and 206L-4 helicopters, or P/N 602.1413 for Model 407 helicopters, on any helicopter.

(f) Alternative Methods of Compliance (AMOC)

(1) The Manager, Los Angeles Aircraft Certification Office, FAA, may approve AMOCs for this AD. Send your proposal to: Venessa Stiger, Cabin Safety/Mechanical & Environmental Systems, Los Angeles Aircraft Certification Office, Transport Airplane Directorate, FAA, 3960 Paramount Blvd., Lakewood, California 90712-4137; telephone (562) 627-5337; email venessa.stiger@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

STC No. SR01535LA, amended February 2, 2007, may be found on the internet in the AD Docket at https://www.regulations.gov in Docket No. FAA-2013-0481.

(h) Subject

Joint Aircraft Service Component (JASC) Code: 3212: Emergency Flotation Section.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Apical Alert Service Bulletin No. SB2010-03, Revision C, dated December 21, 2011.

(ii) Reserved.

(3) For Apical service information identified in this AD, contact Apical Industries, Inc., 2608 Temple Heights Drive, Oceanside, CA 92056-3512; telephone (760) 724-5300; fax: (760) 758-9612; or at www.apicalindustries.com.

(4) You may view this service information at FAA, Office of the Regional Counsel, Southwest Region, 2601 Meacham Blvd., Room 663, Fort Worth, Texas 76137. For information on the availability of this material at the FAA, call (817) 222-5110.

(5) You may also view this service information that is incorporated by reference at the National Archives and Records Administration (NARA). For information on the availability of this material at NARA, call 202-741-6030, or go to: http://www.archives.gov/federal-register/cfr/ibr-locations.html.

Issued in Fort Worth, Texas, on October 30, 2013.
Kim Smith,
Directorate Manager, Rotorcraft Directorate, Aircraft Certification Service.

[FR Doc. 2013-26563 Filed 11-7-13; 8:45 am]

BILLING CODE 4910-13-P